Title 3—

The President

Presidential Determination No. 2009-22 of July 1, 2009

Presidential Determination Under Section 402 (c)(2)(A) of the Trade Act of 1974—Republic of Belarus

Memorandum for the Secretary of State

Pursuant to section 402(c)(2)(A)of the Trade Act of 1974 (Public Law 93-618), as amended (the “Act”), I determine that a waiver by Executive Order of the application of subsections (a) and (b) of section 402 of the Act with respect to Belarus will substantially promote the objectives of section 402.

You are authorized and directed to transmit this determination to the Congress and to publish it in the Federal Register.

THE WHITE HOUSE,

Washington, July 1, 2009.

[FR Doc. E9-16348

Filed 7-8-09; 8:45 am]

Billing code 4710-10-P